DEPARTMENT OF HOUSING AND URBAN DEVELOPMENT

[Docket No. FR-5830-N-04]

30-Day Notice of Submission of Proposed Information Collection for HUD Generic Clearance for Collection of Qualitative Feedback on Proposed New HUD Services or Products

AGENCY: Office of the Chief Information Officer, HUD.

ACTION: Notice.

SUMMARY: HUD has submitted the proposed information collection described below to the Office of Management and Budget (OMB) for review and approval in accordance approval the Paperwork Reduction Act. The purpose of this notice is to allow for an additional 30 days of public comment.

DATES: Comments Due Date: September 28, 2015.

ADDRESSES: Interested persons are invited to submit comments regarding this proposal. Comments should refer to the proposal by name, or the FR number shown above, and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

SUPPLEMENTARY INFORMATION:

I. Purpose and Background

A. Purpose

This notice informs the public that HUD has submitted to OMB a request for approval of the information collection described in Section II.A. The first notice that solicited public comment on the information collection described in Section II.A for a period of 60 days (60-day Notice) was published on June 10, 2015, at 80 FR 32974.

B. Background

Executive Order 12862, entitled “Setting Customer Service Standards,” requires that Federal agencies provide the highest quality service to their customers by identifying needed services and seeking feedback on offered services. The information proposed to be collected under this notice is designed by HUD to garner qualitative feedback from HUD customers in an efficient, timely manner, in accordance with the Administration's commitment to improving service delivery.

In accordance with the Executive Order, the term “customer” means an individual or entity that is directly served by a department or agency. The term “qualitative feedback” refers to information that provides useful insights on perceptions and opinions, but does not constitute statistical surveys that yield quantitative results that can be generalized to the population of the study. The collections to be undertaken under this HUD proposed generic collection will allow for ongoing, collaborative, and actionable communications between HUD and its customers. The collections will also allow feedback to contribute directly to the improvement of HUD products and services, help identify where existing products and services may be lacking in some aspects, and whether there are additional products and services that could be offered by HUD. This notice informs the public that HUD is seeking approval from OMB for the information collection described in Section A.

C. Public Comments and HUD Responses

The 60-day Notice welcomed the submission of comments through HUD's docket at www.regulations.gov (see http://www.regulations.gov/#!docketDetail;D=HUD-2015-0053) and to HUD's Reports Management Officer. HUD received no comments through the www.regulations.gov Web site but HUD's Reports Management Officer received three public comments. The comments stated that the HUD's 60-day notice lacked specificity as to the information that HUD proposed to collect. As HUD advised both commenters the purpose of a “generic” clearance is to describe generally the type of information that an agency may seek in one or more upcoming survey. The survey, however, will not be general. The survey will be specific. Generic refers to the category of information that an agency may seek under a generic clearance.

HUD further advised that for the generic clearance that HUD seeks approval from OMB, the category of information that HUD is seeking pertains to feedback on new services or new products needed by HUD program participants or prospective participants. In the June 10, 2015, 60-day Notice, HUD provided a specific example of the type of solicitation of information that would fall under the generic clearance described in the June 10, 2015, notice and that example was the National Resource Network. As HUD stated in the June 10, 2015, notice: “An example of these types of services or products are the services offered by the National Resource Network that were initially determined best suited for cities with populations of 40,000 or more, and having, among other criteria, an annual average unemployment rate of 9 percent or more. (See http://nationalresourcenetwork.org/en/solutions/rfa). HUD appreciates the comments received on the 60-day notice.

II. Information Collection Proposed by This Notice

A. Overview of Information Collection

Title of Information Collection: Generic Clearance for the Collection of Qualitative Feedback on Proposed New HUD Services or Products.

OMB Approval Number: Pending.

Type of Request: New.

Form Number: No specific form is currently contemplated.

Description of the need for the information and proposed use: For HUD to be successful in its mission, input from HUD customers and interested members of the public is essential. Such feedback takes many forms, including the solicitation of public comments through Federal Register notices, but also through surveys directly sent to HUD customers designed to gauge satisfaction with services and products offered by HUD. This generic clearance is designed to elicit input on possible new HUD products or services that may be helpful to HUD customers. An example of these types of services or products are the services offered by the National Resource Network that were initially determined best suited for cities with populations of 40,000 or more, and having, among other criteria, an annual average unemployment rate of 9 percent or more. (See http://nationalresourcenetwork.org/en/solutions/rfa.)

A generic collection, such as HUD is proposing through this notice, would allow HUD to survey its customers to determine whether HUD has identified appropriate eligibility criteria for new products and services under consideration, and correctly identified the categories of customers in need of these products or services. The areas of inquiry anticipated to be surveyed would be those seeking information about the specific customer being surveyed, for example, the public housing agency (PHA), State and local government, private housing provider, nonprofit organizations, or other organization participating in HUD programs. Of the category or categories of program participants surveyed, the survey would inquire about: The demographics of the populations the customer serves; the type of HUD subsidized housing that is provided; energy, other utility, technological, or other infrastructure needs of the housing provided; the need for better access to community assets, such as transportation, financial services, educational services (schools, libraries or computer facilities), and sports and exercise facilities; the availability of any federal, other governmental, and local resources to address identified needs if these resources were made available; and any demonstration of community or governmental support to improve the quality of the housing provided. HUD anticipates the survey will solicit basic information regarding the customer and current or anticipated needs for which brief responses will suffice. However, the survey would provide the opportunity for the customer to present additional information pertaining to these topics that customers may choose to note.

Respondents (i.e. affected public): PHAs, State and local governments, tribal nations, multifamily housing providers, nonprofit organizations, and other organizations that participate in HUD programs.

Estimated Number of Respondents: 1,000.

Estimated Number of Responses Annually: 100.

Frequency of Response: Once.

Average Hours per Response: 1 hour.

Total Estimated Burdens: 100 hours.

Information collection | Number of respondents annually | Frequency of response | Responses per annum | Burden hour per response | Annual burden hours | Hourly cost per response | Annual cost
Demographics | 1,000 | 1 | 100 | 1 | 1 | 0 | 0
Type of subsidized housing | 1.000 | 1 | 100 | 1 | 1 | 0 | 0
Energy, Utility, Technology Needs | 1,000 | 1 | 100 | 1 | 1 | 0 | 0
Community Assets Needs | 1,000 | 1 | 100 | 1 | 1 | 0 | 0
Potential uses of federal and local resources | 1,000 | 1 | 100 | 1 | 1 | 0 | 0
Totals | 1,000 | 1 | 100 | 1 | 1 | 0 | 0

B. Solicitation of Public Comment

This notice is soliciting comments from members of the public and affected parties concerning the collection of information described in Section II.A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 21, 2015.
Colette Pollard,
Department Reports Management Officer, Office of the Chief Information Officer.

[FR Doc. 2015-21275 Filed 8-27-15; 8:45 am]

BILLING CODE 4210-67-P